DEPARTMENT OF AGRICULTURE

Forest Service

Umatilla National Forest, Columbia County Resource Advisory Committee

AGENCY: Forest Service, USDA.

ACTION: Notice of meeting.

SUMMARY: The Umatilla National Forest, Columbia County Resource Advisory Committee will meet in Dayton, Washington. The committee is authorized under the Secure Rural Schools and Community Self-Determination Act (the Act) and operates in compliance with the Federal Advisory Committee Act. The purpose of the committee is to improve collaborative relationships and to provide advice and recommendations to the Forest Service concerning projects and funding consistent with Title II of the Act. The meeting is open to the public. The purpose of the meeting is to conduct general business and review proposed projects.

DATES: The meeting will be held on March 16, 2020, and will begin at 6:00 p.m.

All RAC meetings are subject to cancellation. For status of meeting prior to attendance, please contact the person listed under FOR FURTHER INFORMATION CONTACT.

ADDRESSES: The meeting will be held at the Best Western Hotel, 507 E Main St., Dayton, WA.

Written comments may be submitted as described under SUPPLEMENTARY INFORMATION. All comments, including names and addresses when provided, are placed in the record and are available for public inspection and copying. The public may inspect comments received at Walla Walla Ranger District, 1415 West Rose Street, Walla Walla, WA 99362. Please call ahead to facilitate entry into the building.

FOR FURTHER INFORMATION CONTACT: Mike Rassbach, RAC Designated Federal Official, USDA Umatilla National Forest, Walla Walla Ranger District, 1415 West Rose Street, Walla Walla, WA 99362; (509) 522-6293; Email mike.rassbach@usda.gov.

Individuals who use telecommunication devices for the deaf (TDD) may call the Idaho, Washington Relay Service at 1-800-377-3529, 24 hours a day, 365 days a year. Please make requests in advance for sign language interpreting, assistive listening devices or other reasonable accommodation for access to the facility or proceedings by contacting the person listed above.

SUPPLEMENTARY INFORMATION: The meeting is open to the public. The agenda will include time for people to make oral statements of three minutes or less. The following business will be conducted: (1) Review of past projects and progress of continuing projects. (2) Discussion and selection of proposed projects and if there are participants, (3) Public Comment.

Individuals wishing to make an oral statement should request in writing by March 9, 2020, to be scheduled on the agenda. Persons who wish to bring related matters to the attention of the Committee may file written statements with the Committee staff before or after the meeting. Written comments and requests for time to make oral comments must be sent to Mike Rassbach, RAC Designated Federal Official, USDA Umatilla National Forest, Walla Walla Ranger District, 1415 West Rose Street, Walla Walla, WA 99362; by email to mike.rassbach@usda.gov, or via facsimile to 509-522-6000.

Meeting Accommodations: If you are a person requiring reasonable accommodation, please make requests in advance for sign language interpreting, assistive listening devices, or other reasonable accommodation, For access to the facility or proceedings, please contact the person listed in the section titled FOR FURTHER INFORMATION CONTACT. All reasonable accommodation requests are managed on a case by case basis.

Dated: February 5, 2020.
Cikena Reid,
USDA Committee Management Officer.

[FR Doc. 2020-02610 Filed 2-10-20; 8:45 am]

BILLING CODE 3411-15-P